DEPARTMENT OF HEALTH AND HUMAN SERVICES

Centers for Disease Control and Prevention

[60Day-03-105]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: ATSDR Rapid Response Registry—New—The Agency for Toxic Substances and Disease Registry (ATSDR). ATSDR plans to develop a registry of individuals exposed to a terrorist or other significant emergency event potentially affecting public health within the United States and its territories. The authority to establish and maintain this registry was given to ATSDR through the following federal laws: Public Health Service Act, 42 U.S.C. 319; the 1980 Comprehensive Environmental Response Compensation and Liability Act (CERCLA) and its 1986 Amendments, the Superfund Amendments and Re-authorization Act (SARA); Federal Response Plan; National Contingency Plan; and the Department of Homeland Security's Consolidated Emergency Operations Plan. ATSDR has consistently been identified as having the primary responsibility for the creation and maintenance of an event-related registry of affected individuals during the acute response phase of an emergency event.

ATSDR plans to develop and maintain a central registry, named the Rapid Response Registry (RRR), of individuals who were in the vicinity of a terrorist or other emergency event. The ATSDR RRR teams will begin identifying and enrolling victims and potentially exposed individuals within hours of an incident, in collaboration with state and local government agencies and private response organizations. RRR activities are intended to help document an individual's presence at or near a specific terrorist or other significant emergency event. This information will be used primarily to provide health officials with essential information necessary for both short- and long-term follow-up of victims and potentially exposed individuals. Contact information will be used to provide information to the registrants regarding their exposures, potential health impacts, available educational materials, and other pertinent news and updates. Follow-up contacts by health officials are anticipated to be for the purposes of assessing current and future medical needs and providing appropriate and timely medical interventions where possible. Subsequent health studies (not part of this activity) may be useful to identify potential long-term health outcomes in the exposed population; the contact information will enable these studies to be conducted.

A standardized one-page survey instrument will be used to collect contact information, demographics, and brief exposure and outcome data on all registrants. The same survey instrument will be used in both Phase I and Phase II data collection activities.

Phase I response entails immediate deployment of the RRR team to support local efforts to enroll victims and immediately-exposed individuals. Phase I RRR data collection teams will be deployed to all places where victims and the immediately-exposed population might be located (e.g., on-site response facilities, emergency departments, hospitals, morgues, public shelters, churches).

Phase II response entails later deployment of an RRR team to conduct a census of the entire at-risk population. Phase II data collection methods will include house-to-house interviews, telephone interviews, on-line enrollment, media outreach, and professional tracing services. If the at-risk population or geographic area is reasonably small-scale, a systematic census will be conducted to enroll every exposed or potentially exposed person. If the at-risk population or geographic area is large-scale, then a representative sample of the at-risk population will be enrolled. A brief, optional health effects questionnaire also has been developed that will be made available to local health officials, if they wish to use it, to better characterize the types of health outcomes resulting from the emergency event. There are no costs to respondents.

Respondents | Number of respondent | Responses per respondent | Avg. burden per response (in hrs) | Total burden per year (in hrs)
People in proximity to an emergency event: 1-page contact form only | 1,000 | 1 | 10/60 | 167
People in proximity to an emergency event: health effects questionnaire | 200 | 1 | 20/60 | 67
Total |  |  |  | 234

Dated: August 4, 2003.
Thomas A. Bartenfeld,
Acting Associate Director for Policy, Planning and Evaluation, Centers for Disease Control and Prevention.

[FR Doc. 03-20350 Filed 8-8-03; 8:45 am]

BILLING CODE 4163-18-P